INTERNATIONAL TRADE COMMISSION

[Investigations Nos. 701-TA-318 (Review) and 731-TA-538 and 561 (Review)]

Sulfanilic Acid From China and India

Determinations

On the basis of the record ¹ developed in the subject five-year reviews, the United States International Trade Commission determines, pursuant to section 751(c) of the Tariff Act of 1930 (19 U.S.C. § 1675(c)), that revocation of the countervailing duty and antidumping duty orders on sulfanilic acid from China and India would be likely to lead to continuation or recurrence of material injury to an industry in the United States within a reasonably foreseeable time.

¹ The record is defined in sec. 207.2(f) of the Commission's Rules of Practice and Procedure (19 CFR § 207.2(f)).

Background

The Commission instituted these reviews on October 1, 1999 (64 FR 53412, October 1, 1999) and determined on January 7, 2000 that it would conduct expedited reviews (65 FR 2645, January 18, 2000). The Commission transmitted its determinations in these reviews to the Secretary of Commerce on May 18, 2000. The views of the Commission are contained in USITC Publication 3301 (May 2000), entitled Sulfanilic Acid From China and India: Investigations Nos. 701-TA-318 (Review) and 731-TA-538 and 561 (Review).

Issued: May 22, 2000.
By order of the Commission.
Donna R. Koehnke,
Secretary.

[FR Doc. 00-13268 Filed 5-25-00; 8:45 am]

BILLING CODE 7020-02-P